DEPARTMENT OF HEALTH AND HUMAN SERVICES

National Institutes of Health

National Institute on Deafness and Other Communication Disorders; Amended Notice of Meeting

Notice is hereby given of a change in the meeting of the National Deafness and Other Communication Disorders Advisory Council, May 29, 2020, 09:00 a.m. to May 29, 2020, 12:20 p.m., PORTER NEUROSCIENCE RESEARCH CENTER, building 35A, 35 Convent Drive, Bethesda, MD 20892 which was published in the Federal Register on December 03, 2019, 84 FR 66211.

This notice is being amended to change the meeting location from (in-person location) to a virtual meeting. The url link to this meeting is: https://www.nidcd.nih.gov/about/advisory-council/upcoming-meetings. The meeting is partially Closed to the public.

Dated: April 16, 2020.
Miguelina Perez,
Program Analyst, Office of Federal Advisory Committee Policy.

[FR Doc. 2020-08470 Filed 4-21-20; 8:45 am]

BILLING CODE 4140-01-P